DEPARTMENT OF HEALTH AND HUMAN SERVICES

Health Resources and Services Administration

Advisory Council; Notice of Meeting

AGENCY: Health Resources and Services Administration, HHS.

ACTION: Notice of Meeting.

In accordance with section 10(a)(2) of the Federal Advisory Committee Act (Pub. L. 92-463), announcement is made of the following National Advisory body scheduled to meet during the month of July 2001:

Name: National Advisory Council on Migrant Health.

Date and Time: July 15, 2001; 9 a.m. to 5 p.m.; July 16, 2001; 9 a.m. to 5 p.m.

Place: Courtyard Marriott, 300 West Michigan Street, Milwaukee, Wisconsin 53203. Phone: (414) 291-4122; Fax (414) 291-4188.

The meeting is open to the public.

Agenda: This will be a meeting of the Council. The agenda includes an overview of general Council business activities and priorities. Topics of discussion will include development of expert background papers to support the Council's recommendations, as well as mission statements and action plans of the Council's subcommittees. The Council will also discuss issues around portability of Medicaid benefits, and Migrant Health voucher programs. Finally, the Council will participate in the annual meeting of the National Council of La Raza, which is being held in Milwaukee during the same period of time.

Anyone requiring information regarding the subject Council should contact Judy Rodgers, Migrant Health Program, staff support to the National Advisory Council on Migrant Health, Bureau of Primary Health Care, Health Resources and Services Administration, 4350 East-West Highway, Bethesda, Maryland 20814, Telephone (301) 594-4304.

Agenda items are subject to change as priorities indicate.

Dated: June 6, 2001.
Jane M. Harrison,
Director, Division of Policy Review and Coordination.

[FR Doc. 01-14865 Filed 6-12-01; 8:45 am]

BILLING CODE 4160-15-P